DEPARTMENT OF TRANSPORTATION

Federal Aviation Administration

14 CFR Part 71

[Docket No. FAA-2021-0637; Airspace Docket No. 21-ANM-31]

RIN 2120-AA66

Establishment of Class E Airspace; Portland-Troutdale Airport, OR

AGENCY: Federal Aviation Administration (FAA), DOT.

ACTION: Final rule.

SUMMARY: This action establishes Class E airspace, designated as an extension to a Class D or Class E surface area, at Portland-Troutdale Airport, Portland, OR. This action also implements numerous administrative updates to the Class D and Class E2 text headers, and airspace descriptions. This action ensures the safety and management of instrument flight rule (IFR) operations at the airport.

DATES: Effective 0901 UTC, January 27, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Matthew Van Der Wal, Federal Aviation Administration, Western Service Center, Operations Support Group, 2200 S 216th Street, Des Moines, WA 98198; telephone (206) 231-3695.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E airspace at Portland-Troutdale Airport, Portland, OR, to ensure the safety and management of IFR operations at the airport.

History

The FAA published a notice of proposed rulemaking in the Federal Register (86 FR 44668; August 13, 2021) for Docket No. FAA-2021-0637 to establish Class E airspace at Portland-Troutdale Airport, Portland, OR. Interested parties were invited to participate in this rulemaking effort by submitting written comments on the proposal to the FAA. No comments were received.

After the publication of the NPRM, the FAA discovered a typo in the longitudinal coordinates listed for Portland International Airport. The final rule corrects the coordinates from “lat. 45°35′19″ N, long. 112°35′49″ W” to “lat. 45°35′19″ N, long. 122°35′49″W ”.

Class D, Class E2, and Class E4 airspace designations are published in paragraphs 5000, 6002, and 6004, respectively, of FAA Order JO 7400.11F, dated August 10, 2021, and effective September 15, 2021, which is incorporated by reference in 14 CFR 71.1. The Class E airspace designation listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This amendment to 14 CFR part 71 establishes Class E airspace at Portland-Troutdale Airport, Portland, OR. The additional airspace is designed to properly contain IFR aircraft descending below 1,000 feet above the surface on the RNAV (GPS)-A approach.

This action also implements numerous administrative updates to the Class D and Class E2 text headers and airspace descriptions. The first line of the text headers is updated from “ANM OR D Portland-Troutdale, OR” to “ANM OR D Portland, OR”, Portland is the official city for the airport. The second line of the text headers is updated from “Portland-Troutdale Airport, Troutdale, OR” to “Portland-Troutdale Airport, OR”, this line should only list the airport name and state. A fourth and fifth line of text should be added to the headers. The lines should read “Portland International Airport, OR” and “(lat. 45°35′19″ N, long. 122°35′49″ W)', respectively. The additional lines are necessary because the airspace descriptions contain exclusionary language for Portland International Airport's Class C airspace area. The term Airport/Facility Directory” in the last sentence of the Class D airspace description is outdated and should be corrected to “Chart Supplement.” The Class E2 airspace area is not in use continuously, to accurately describe the airspace, the following sentences should be added to the description. “This Class E airspace area is effective during the specific dates and times established in advance by a Notice to Airmen. The effective date and time will thereafter be continuously published in the Chart Supplement.”

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM OR D Portland, OR [Amended]

Portland-Troutdale Airport, OR

(Lat. 45°32′58″ N, long. 122°24′05″ W)

Portland International Airport, OR

(Lat. 45°35′19″ N, long. 122°35′49″ W)

That airspace extending upward from the surface to and including 2,500 feet MSL within a 4-mile radius of the Portland-Troutdale Airport, excluding the portion within Portland International Airport's Class C airspace area. This Class D airspace area is effective during the specific dates and times established in advance by a Notice to Airmen. The effective date and time will thereafter be continuously published in the Chart Supplement.

Paragraph 6002 Class E Airspace Areas Designated as a Surface Area.

* * * * *

ANM OR E2 Portland, OR [Amended]

Portland-Troutdale Airport, OR

(Lat. 45°32′58″ N, long. 122°24′05″ W)

Portland International Airport, OR

(Lat. 45°35′19″ N, long. 122°35′49″ W)

That airspace extending upward from the surface to and including 2,500 feet MSL within a 4-mile radius of the Portland-Troutdale Airport, excluding the portion within the Portland International Airport's Class C airspace area. This Class E airspace area is effective during the specific dates and times established in advance by a Notice to Airmen. The effective date and time will thereafter be continuously published in the Chart Supplement.

Paragraph 6004 Class E Airspace Areas Designated as an Extension to a Class D or Class E Surface Area.

* * * * *

ANM OR E4 Portland, OR [New]

Portland-Troutdale Airport, OR

(Lat. 45°32′58″ N, long. 122°24′05″ W)

That airspace extending upward from the surface within 2.3 miles each side of the 212° bearing from the airport extending from a 4-mile radius of the airport to 10.4 miles to the southwest of the airport.

Issued in Des Moines, Washington, on October 28, 2021.
B.G. Chew,
Acting Group Manager, Operations Support Group, Western Service Center.

[FR Doc. 2021-23980 Filed 11-3-21; 8:45 am]

BILLING CODE 4910-13-P